DEPARTMENT OF THE INTERIOR

Bureau of Land Management

[CA-660-04-1150-JP]

Restrictions on Use of Public Lands; California

AGENCY: Bureau of Land Management, Interior.

ACTION: Notice of closure.

SUMMARY: This notice closes to casual use certain public lands managed by the Bureau of Land Management (BLM) in the Santa Rosa and San Jacinto Mountains National Monument, in order to prevent hikers and other visitors from accessing ridges that overlook bighorn sheep breeding pens on the property of the Bighorn Institute.

EFFECTIVE DATE: December 4, 2003.

ADDRESSES: Send inquiries or suggestions to the Santa Rosa and San Jacinto Mountains National Monument, Palm Springs Field Office, Bureau of Land Management, 690 W. Garnet, PO Box 581260, North Palm Springs, CA 92258-1260.

FOR FURTHER INFORMATION CONTACT: Danella George, Santa Rosa and San Jacinto Mountains National Monument Manager, (760) 251-4800.

SUPPLEMENTARY INFORMATION:

I. Background

On February 13, 2003, the U.S. Fish and Wildlife Service issued a Biological Opinion (FWS-ERIV-3354.1), in accordance with section 7 of the Endangered Species Act of 1973, as amended, addressing effects on the endangered Peninsular Ranges bighorn sheep (Ovis canadensis) from a proposed joint trails and recreation use plan prepared by the City of Palm Desert and the Bureau of Land Management (the joint plan). As part of the proposed action, and consistent with the Biological Opinion, the City of Palm Desert (City) and the Bureau of Land Management (BLM) agreed to close portions of City and BLM-managed public lands to recreation and casual use to prevent hikers from accessing ridges that overlook bighorn sheep breeding pens on the property of the Bighorn Institute.

The population of bighorn sheep in the United States' Peninsular Ranges was listed as an endangered species on March 18, 1998. The Recovery Plan for Bighorn Sheep in the Peninsular Ranges, California, was issued on October 25, 2000. On October 25, 2000, the Santa Rosa and San Jacinto Mountains National Monument was established by an Act of Congress that was signed into law by President Clinton (Pub. L. 106-351). BLM completed the California Desert Conservation Area Plan Amendment for the Coachella Valley (Coachella Valley Plan) on December 27, 2002. The Coachella Valley Plan covered portions of the Santa Rosa and San Jacinto Mountain National Monument and addresses recovery of the bighorn sheep.

Because bighorn sheep evolved with canine predators, they are particularly sensitive to the presence of dogs. This has created a conflict between bighorn sheep conservation management and recreational use of public lands. In 2000, BLM issued a temporary closure of public lands prohibiting dogs in designated critical bighorn sheep habitat, except in a few designated areas. Recreational hiking with dogs had been a popular use on City owned lands and public lands south of the Santa Rosa and San Jacinto Mountains National Monument Visitor Center on Highway 74. This situation caused a conflict with the Bighorn Institute, a captive bighorn sheep breeding facility located north of the Visitor Center. The director of the Bighorn Institute expressed concern over the nearness of dogs south of the Visitor Center and requested that they be moved to a different location. BLM and the City proposed to construct a loop trail south of the Visitor Center that would be off-limits to dogs, and to construct an additional trail, open to hikers with dogs, on the west side of Highway 74 that would connect the City's Homme-Adams Park with the Cahuilla Hills Park. Dogs would be allowed on the Homme-Adams Park Trail and Cahuilla Hills Park Trail. Under agreements with the Bighorn Institute and the City, BLM proposed to discourage hiking access by reclaiming an unauthorized road and enforce a closure along the saddle immediately south of the BLM property line that leads to an overlook on BLM lands above the Bighorn Institute's sheep pens. The proposed action for trail realignments, new trail construction, and blocking access to the ridge overlooking the Bighorn Institute was analyzed under an environmental assessment (Homme-Adams and Visitor Center Trail Loops, EA-660-03-08). The BLM initiated consultation with the U.S. Fish and Wildlife Service (Service) on the effects of the proposed project on the endangered Peninsular Ranges bighorn sheep, in accordance with section 7 of the Endangered Species Act of 1973, as amended (ESA), on December 30, 2002. The Service issued a Biological Opinion based on the BLM and City environmental assessments, information in Service files, and on information and agreements obtained in meetings, telephone conversations, and e-mails prior to and during the consultation period. Under the Terms and Conditions of the Biological Opinion, and to meet the requirement of section 9 of the ESA, the BLM must take reasonable and prudent measures to minimize the impact of incidental take by minimizing the adverse effects of human disturbance to wild and captive bighorn sheep, through the proposed actions referenced in EA-660-03-08. These actions include BLM and City commitments: (1) To block human access to the old “Shirley” road on their lands through a combination of signage, fencing and physical barriers, including deconstructing and recontouring the road sufficient to discourage access and reinforce the closure along the saddle immediately south of the BLM property line that leads to an overlook on BLM lands of the Bighorn Institute's sheep pens, and (2) to employ a progressive management strategy to prevent hiking off the designated trail system and towards or overlooking captive sheep in the Bighorn Institute pens, including signage, stricter enforcement and penalties when legally feasible, physical barriers and fencing at strategic locations. The BLM issued a Decision Record to implement the proposed action, including the Terms and Conditions of the Biological Opinion, on March 7, 2003. The City issued an ordinance (Ordinance No. 1034) and a resolution (Resolution No. 03-12), approving construction of a new trail and closing portions of City lands between the National Monument Visitor Center and the ridge overlooking the Bighorn Institute, on January 23, 2003 (mitigation measures B-5 and B-6).

II. Closure

In compliance with 43 CFR 8364.1(c), notice is hereby given that BLM is closing portions of public lands in the Santa Rosa and San Jacinto Mountains National Monument. The public lands hereby closed are those lands within the north ½ of the north ½ of Section 7, Township 6 South, Range 6 East, San Bernardino Meridian (SBM). These restrictions will be in effect year-round from December 4, 2003 until rescinded by the authorized officer. The order to close these lands is needed to protect the resources of the public lands and to minimize conflicts among various uses of the public lands.

BLM finds good cause to publish this closure notice effective the date of publication and without providing for public comment due to the immediate need to protect the Peninsular Range bighorn sheep from the stress that is likely to be caused by recreational use of land overlooking their captive breeding pens. A 30-day public comment on the subject of this action began on December 30, 2002, through publication of an environmental assessment (Homme-Adams and Visitor Center Trail Loops, EA-660-03-08). A Biological Opinion issued by the U.S. Fish and Wildlife Service on February 13, 2003 (FWS-ERIV-3354.1) supported BLM's proposed action as a reasonable and prudent measure to minimize the adverse effects of human disturbance to wild and captive bighorn sheep. All public comments received were considered prior to BLM's issuance of its Decision Record (DR) on March 7, 2003. BLM provided the public notification of this DR and the procedures for appeals through a news release issued March 11, 2003. No appeals were filed. Furthermore, the public was fully involved in the development of the joint plan. Also, the regulations on Closures and Restrictions at 43 CFR 8364.1 do not require publication of a request for comments.

The BLM lands covered by this closure order cannot be accessed except by crossing closed City lands. In compliance with the proposed action described in Homme-Adams and Visitor Center Trail Loops, EA-660-03-08, the Biological Opinion (FWS-ERIV-3354.1) dated February 13, 2003, and the City of Palm Desert ordinance, BLM hereby closes the described public lands to recreational and casual use. Any person who fails to comply with this order may be subject to the penalties provided in CFR 8360.0-7.

III. Exceptions

The following are exempt from this order: (1) fire, emergency, or law enforcement personnel when engaged in emergency or patrol activities; and (2) persons or uses expressly authorized by BLM.

Dated: October 30, 2003.
Linda Hansen,
California Desert District Manager.

[FR Doc. 03-30156 Filed 12-3-03; 8:45 am]

BILLING CODE 4310-40-P